DEPARTMENT OF TRANSPORTATION

Federal Aviation Administration

14 CFR Part 39

[Docket No. 2003-NM-152-AD; Amendment 39-13223; AD 2003-14-04]

RIN 2120-AA64

Airworthiness Directives; Boeing Model 737-200, 737-300, 737-400, 737-500, 737-600, 737-700, 737-800, 737-900, 757-200, and 757-300 Series Airplanes; and McDonnell Douglas Model DC-10-10F, DC-10-30, DC-10-30F, DC-10-40, MD-10-30F, MD-11, and MD-11F Airplanes

AGENCY: Federal Aviation Administration, DOT.

ACTION: Final rule; request for comments.

SUMMARY: This amendment adopts a new airworthiness directive (AD) that is applicable to certain transport category airplanes as listed above. This action requires modification of the reinforced flight deck door installed on the airplane. This action is necessary to prevent inadvertent release of the decompression latch and consequent opening of the decompression panel in the flight deck door. If an airplane crewmember is in close proximity to the flight deck door when the decompression panel opens, the decompression panel could hit and injure the crewmember. This action is intended to address the identified unsafe condition.

DATES: Effective July 25, 2003.

The incorporation by reference of certain publications listed in the regulations is approved by the Director of the Federal Register as of July 25, 2003.

Comments for inclusion in the Rules Docket must be received on or before September 8, 2003.

ADDRESSES: Submit comments in triplicate to the Federal Aviation Administration (FAA), Transport Airplane Directorate, ANM-114, Attention: Rules Docket No. 2003-NM-152-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2003-NM-152-AD” in the subject line and need not be submitted in triplicate. Comments sent via the Internet as attached electronic files must be formatted in Microsoft Word 97 or 2000 or ASCII text.

The service information referenced in this AD may be obtained from Boeing Commercial Airplane Group, P.O. Box 3707, Seattle, Washington 98124-2207; or C & D Aerospace, 5701 Bolsa Avenue, Huntington Beach, California 92647-2063. This information may be examined at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION: The FAA has received several reports of incidents involving the reinforced flight deck door on certain Boeing Model 737-300, 737-500, 737-800, and 757-200 series airplanes. In these incidents, slamming the flight deck door caused the decompression latch to release and the decompression panel in the door to open. This condition, if not corrected, could result in the decompression panel hitting and injuring an airplane crewmember, if the crewmember is in close proximity to the flight deck door when the decompression panel opens.

The decompression latches for the reinforced flight deck doors on certain Boeing Model 737-200, 737-400, 737-600, 737-700, 737-900, and 757-300 series airplanes; and certain McDonnell Douglas Model DC-10-10F, DC-10-30, DC-10-30F, DC-10-40, MD-10-30F, MD-11, and MD-11F airplanes; are identical to those on the affected Model 737-300, 737-500, 737-800, and 757-200 series airplanes. Therefore, all of these models may be subject to the same unsafe condition.

The subject reinforced flight deck doors meet the ballistics and intrusion resistance security requirements of Section 25.795 (“Security Considerations”) of the Federal Aviation Regulations (14 CFR 25.795) when the door is properly closed, latched, and locked. The possibility that the decompression panel may open if the door is slammed shut is unrelated to the flight deck door's ballistics and intrusion resistance characteristics.

Explanation of Relevant Service Information

The FAA has reviewed and approved C & D Aerospace Service Bulletin B221001-52-03, Revision 3, dated March 25, 2003, which applies to certain Boeing Model 737-200, -300, -400, -500, -600, -700, -800, and -900 series airplanes; and C & D Aerospace Service Bulletin B231001-52-02, Revision 4, dated March 19, 2003, which applies to certain Boeing Model 757-200 and -300 series airplanes. Those service bulletins describe procedures for modifying the reinforced flight deck door by, among other things, modifying the upper and lower pressure relief latch assemblies. The procedures for modifying the upper pressure relief latch assembly include removing the upper pressure relief latch assembly and spacer, installing a new decompression latch strap, reinstalling the existing upper pressure relief latch assembly and spacer, and installing a new pressure relief latch spacer. The procedures for modifying the lower pressure relief latch assembly involve removing the lower pressure relief latch cover, latch assembly, and spacer; installing a new decompression latch strap; reinstalling the existing lower pressure relief latch assembly, spacer, and cover; and installing a new pressure relief latch spacer.

The FAA has also reviewed and approved C & D Aerospace Service Bulletin B211200-52-02, Revision 1, dated June 3, 2003, which applies to certain McDonnell Douglas Model DC-10-10F, DC-10-30, DC-10-30F, DC-10-40, MD-10-30F, MD-11, and MD-11F airplanes. That service bulletin describes procedures for modifying the reinforced flight deck door by, among other things, installing spacers in the upper and lower pressure relief latch assemblies. The procedures for installing the spacers include removing the upper pressure relief latch strap and the upper and lower pressure relief latch assemblies and spacers, installing new spacers, and reinstalling the existing upper pressure relief latch strap, and the upper and lower pressure relief latch assemblies and spacers.

Accomplishment of the actions specified in the applicable service bulletin is intended to adequately address the identified unsafe condition.

Explanation of the Requirements of the Rule

Since an unsafe condition has been identified that is likely to exist or develop on other airplanes of the same type design registered in the United States, this AD requires accomplishment of the actions specified in the applicable service bulletin described previously, except as discussed below under the heading “Differences Between This AD and the Service Bulletins.” The actions are required to be accomplished according to the applicable service bulletin described previously.

Operators should note that the illustrations in the service bulletins may be confusing in a way that would lead to the incorrect installation of a strap at the top of the upper pressure relief assembly or on the bottom of the lower pressure relief assembly. One latch strap should be installed at the bottom of the upper pressure relief assembly, and a second latch strap should be installed at the top of the lower pressure relief assembly. When properly installed, the strap should cover a portion of the latch hook.

Explanation of Applicability

This AD identifies McDonnell Douglas model designations as published in the most recent type certificate data sheet for the affected models.

Differences Between This AD and the Service Bulletins

Although the service bulletins recommend accomplishing the modification “as soon as manpower, facilities, and retrofit kits become available,” we have determined that a more specific compliance time is necessary to ensure an adequate level of safety for the affected fleet. In developing an appropriate compliance time for this AD, we considered the flight deck door manufacturer's recommendation, the degree of urgency associated with the subject unsafe condition, the number of affected airplanes in the fleet, and the time necessary to perform the modification (1 to 2 work hours). In light of all of these factors, we find that a 90-day compliance time represents an appropriate interval of time for affected airplanes to continue to operate without compromising safety.

Also, the service bulletins include instructions for other modifications to the reinforced flight deck door besides those described previously. However, this AD requires only the modification of the upper and lower pressure relief latch assemblies for the Boeing airplane models identified previously, and the installation of spacers in the upper and lower pressure relief latch assemblies for the McDonnell Douglas airplane models identified previously.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-152-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-14-04 Transport Category Airplanes: Amendment 39-13223. Docket 2003-NM-152-AD.

Applicability: The airplanes listed in Table 1 of this AD, certificated in any category. Table 1 of this AD follows:

Table 1.—Affected Airplane Models
Airplane manufacturer | Airplane model | As listed in C & D Aerospace Service Bulletin
Boeing | 737-200, -300, -400, -500, -600, -700, -800, and -900 series | B221001-52-03, Revision 3, dated March 25, 2003.
Boeing | 757-200 and -300 series | B231001-52-02, Revision 4, dated March 19, 2003.
McDonnell Douglas | DC-10-10F, DC-10-30, DC-10-30F, DC-10-40, MD-10-30F, MD-11, and MD-11F | B211200-52-02, Revision 1, dated June 3, 2003.

Compliance: Required as indicated, unless accomplished previously.

To prevent inadvertent release of the decompression latch and consequent opening of the decompression panel in the reinforced flight deck door, which could result in the decompression panel hitting and injuring an airplane crewmember, if the crewmember is in close proximity to the flight deck door when the decompression panel opens, accomplish the following:

Note 1: Where there are differences between this AD and the referenced service bulletins, this AD prevails.

Modification

(a) Within 90 days after the effective date of this AD, modify the reinforced flight deck door according to paragraph (a)(1), (a)(2), or (a)(3) of this AD, as applicable.

(1) For Boeing Model 737-200, -300, -400, -500, -600, -700, -800, and -900 series airplanes: Modify the upper and lower pressure relief latch assemblies on the flight deck door by doing all actions specified in and according to paragraphs 3.A., 3.B., and 3.C. of the Accomplishment Instructions of C & D Aerospace Service Bulletin B221001-52-03, Revision 3, dated March 25, 2003. One latch strap should be installed at the bottom of the upper pressure relief assembly, and a second latch strap should be installed at the top of the lower pressure relief assembly. When properly installed, the strap should cover a portion of the latch hook.

(2) For Boeing Model 757-200 and -300 series airplanes: Modify the upper and lower pressure relief latch assemblies on the flight deck door by doing all actions specified in and according to paragraphs 3.A., 3.B., and 3.C. of the Accomplishment Instructions of C & D Aerospace Service Bulletin B231001-52-02, Revision 4, dated March 19, 2003. One latch strap should be installed at the bottom of the upper pressure relief assembly, and a second latch strap should be installed at the top of the lower pressure relief assembly. When properly installed, the strap should cover a portion of the latch hook.

(3) For McDonnell Douglas DC-10-10F, DC-10-30, DC-10-30F, DC-10-40, MD-10-30F, MD-11, and MD-11F airplanes: Install spacers in the upper and lower pressure relief latch assemblies of the flight deck door, by doing all actions specified and according to paragraphs 3.A., 3.C., and 3.D. of C & D Aerospace Service Bulletin B211200-52-02, Revision 1, dated June 3, 2003. One latch strap should be installed at the bottom of the upper pressure relief assembly, and a second latch strap should be installed at the top of the lower pressure relief assembly. When properly installed, the strap should cover a portion of the latch hook.

Modifications Accomplished Per Previous Issues of Service Bulletin

(b) Modifications accomplished before the effective date of this AD per a service bulletin listed in paragraph (b)(1), (b)(2), or (b)(3) of this AD; as applicable; are considered acceptable for compliance with the corresponding action specified in paragraph (a) of this AD.

(1) For Boeing Model 737-200, -300, -400, -500, -600, -700, -800, and -900 series airplanes: C & D Aerospace Service Bulletin B221001-52-03, dated December 6, 2002; Revision 1, dated January 2, 2003; or Revision 2, dated February 20, 2003.

(2) For Boeing Model 757-200 and -300 series airplanes: C & D Aerospace Service Bulletin B231001-52-02, dated December 6, 2002; Revision 1, dated January 2, 2003; Revision 2, dated February 20, 2003; or Revision 3, dated March 7, 2003.

(3) For McDonnell Douglas DC-10-10F, DC-10-30, DC-10-30F, DC-10-40, MD-10-30F, MD-11, and MD-11F airplanes: C & D Aerospace Service Bulletin B211200-52-02, dated April 30, 2003.

Parts Installation

(c) As of the effective date of this AD, no person may install, on any airplane, a reinforced flight deck door having any part number listed in the paragraph 1.A. of C & D Aerospace Service Bulletin B221001-52-03, Revision 3, dated March 25, 2003; B231001-52-02, Revision 4, dated March 19, 2003; or B211200-52-02, Revision 1, dated June 3, 2003; as applicable; unless the door has been modified as required by paragraph (a) of this AD.

Alternative Methods of Compliance

(d) In accordance with 14 CFR 39.19, the Manager, Los Angeles Aircraft Certification Office (ACO), FAA, is authorized to approve alternative methods of compliance for this AD.

Incorporation by Reference

(e) Unless otherwise specified in this AD, the actions shall be done in accordance with C & D Aerospace Service Bulletin B211200-52-02, Revision 1, dated June 3, 2003; C & D Aerospace Service Bulletin B221001-52-03, Revision 3, dated March 25, 2003; or C & D Aerospace Service Bulletin B231001-52-02, Revision 4, dated March 19, 2003; as applicable. This incorporation by reference was approved by the Director of the Federal Register in accordance with 5 U.S.C. 552(a) and 1 CFR part 51. Copies may be obtained from Boeing Commercial Airplane Group, P.O. Box 3707, Seattle, Washington 98124-2207; or C & D Aerospace, 5701 Bolsa Avenue, Huntington Beach, California 92647-2063. Copies may be inspected at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

Effective Date

(f) This amendment becomes effective on July 25, 2003.

Issued in Renton, Washington, on July 2, 2003.
Vi L. Lipski,
Manager, Transport Airplane Directorate, Aircraft Certification Service.

[FR Doc. 03-17311 Filed 7-9-03; 8:45 am]

BILLING CODE 4910-13-P